DEPARTMENT OF COMMERCE

National Oceanic and Atmospheric Administration

50 CFR Part 648

[Docket No. 990713189-9335-02; I.D. 060899B]

RIN 0648-AK79

Fisheries of the Northeastern United States; Spiny Dogfish Fishery Management Plan

AGENCY: National Marine Fisheries Service (NMFS), National Oceanic and Atmospheric Administration (NOAA), Commerce.

ACTION: Final rule; delay of effectiveness.

SUMMARY: NMFS delays the effective date of a final rule published January 11, 2000, from February 10, 2000, until March 15, 2000. The final rule will implement approved management measures for the spiny dogfish fishery, as contained in the Spiny Dogfish Fishery Management Plan (FMP). This action is being taken in order to provide the Mid-Atlantic and New England Fishery Management Councils (Councils) with the opportunity to come to an agreement on how to proceed with implementation of the FMP. If the Councils have not reached an agreement by March 15, 2000, NMFS will assess the situation to determine the appropriate course of action to take at that time.

DATES: Unless as otherwise specified above, the final rule implementing the Spiny Dogfish Fishery Management Plan (published on January 11, 2000 at 65 FR 1557) is effective March 15, 2000.

FOR FURTHER INFORMATION CONTACT: Richard Pearson, Fishery Policy Analyst, at 978-281-0279.

SUPPLEMENTARY INFORMATION: The FMP was developed jointly by the Councils, with the Mid-Atlantic Council having the administrative lead. A Notice of Availability for the FMP was published in the Federal Register on June 29, 1999 (64 FR 34759), and solicited public comment through August 30, 1999. The proposed rule to implement the FMP was published in the Federal Register on August 3, 1999 (64 FR 42071), and solicited public comments through September 17, 1999. NMFS made the decision to partially approve the FMP on September 29, 1999. A final rule to implement the FMP was published in the Federal Register January 11, 2000 (65 FR 1557), to be effective on February 10, 2000. The final rule will now be effective March 15, 2000.

Dated: February 10, 2000.
Penelope D. Dalton,
Assistant Administrator for Fisheries, National Marine Fisheries Services.

[FR Doc. 00-3513 Filed 2-10-00; 3:14 pm]

BILLING CODE 3510-22-F